DEPARTMENT OF HOUSING AND URBAN DEVELOPMENT

24 CFR Part 100

[Docket No. FR 5508-C-04]

Application of the Fair Housing Act's Discriminatory Effects Standard to Insurance; Correction

AGENCY: Office of the Assistant Secretary for Fair Housing and Equal Opportunity, HUD.

ACTION: Classification of published document; correction.

SUMMARY: On October 5, 2016, HUD published a document in response to a court remand, which was miscategorized and placed in the “proposed rules” section of the Federal Register. See 81 FR 69012 (Oct. 5, 2016). The October 5, 2016, document is neither a proposed rule, nor is it related to a proposed rule. Rather, the October 5, 2016, document responds to a court remand on a final rule by supplementing HUD's responses to certain insurance industry comments that HUD responded to in the preamble to its final rule, entitled “Implementation of the Fair Housing Act's Discriminatory Effects Standard,” 78 FR 11460 (Feb. 15, 2013). HUD issues this correction to clarify that the published document was related to a final rule and thus should have been categorized and published in the “rules and regulations” section of the Federal Register.

DATES: December 8, 2016.

FOR FURTHER INFORMATION CONTACT: With respect to this supplementary document, contact Ariel Pereira, Associate General Counsel for Legislation and Regulations, Department of Housing and Urban Development, 451 7th Street SW., Room 10238, Washington, DC 20410; telephone number 202-708-1793 (this is not a toll-free number). Persons with hearing or speech impairments may access this number through TTY by calling the toll-free Federal Relay Service at 800-877-8339.

SUPPLEMENTARY INFORMATION: Pursuant to 1 CFR 5.9, the Federal Register must select one of four different categories for publishing documents: The President, Rules and regulations, Proposed rules, and Notices. Documents in the “rules and regulations” category include documents that “affect other documents previously published in the rules and regulations section,” whereas documents in the “proposed rules” category include documents that “affect or relate to other documents previously published in the proposed rules section.” 1 CFR 5.9(b), (c) (emphasis added).

On October 5, 2016, HUD published a document entitled “Application of the Fair Housing Act's Discriminatory Effects Standard to Insurance,” see 81 FR 69012 (Oct. 5, 2016), which supplements responses previously published with the final rule, “Implementation of the Fair Housing Act's Discriminatory Effects Standard.” See 78 FR 11460 (Feb. 15, 2013). Because the October 5, 2016, document “affect[ed an]other document[ ] previously published in the rules and regulations section,” namely HUD's February 15, 2013 final rule, it falls within the “rules and regulations” category pursuant to 1 CFR 5.9(b). Therefore, HUD issues this correction to make clear that the document published on October 5, 2016, was not a document that affects or relates to a document previously published in the “proposed rules” section, but rather was a final agency action related to a final rule that should have been categorized and published in the “rules and regulations” category.

Dated: December 5, 2016.
Ariel Pereira,
Associate General Counsel for Legislation and Regulations.

[FR Doc. 2016-29446 Filed 12-7-16; 8:45 am]

BILLING CODE 4210-67-P